DEPARTMENT OF DEFENSE

Office of the Secretary

Defense Science Board

AGENCY: Department of Defense.

ACTION: Notice of Advisory Committee meeting.

SUMMARY: The Defense Science Board (DSB) Task Force on Special Operations and Joint Forces in Support of Countering Terrorism will meet in closed session on April 16-17, 2002, at SAIC, 4001 N. Fairfax Drive, Arlington, VA; May 13-14, 2002, at the Joint Forces Command and the Training & Doctrine Command in Hampton, VA; May 22-23, 2002, at US Central Command and US Special Operations Command in Tampa, FL; and July 16-17, 2002, at SAIC, 4001 N. Fairfax Drive, Arlington, VA. This Task Force will review all elements of the future joint force, including Special Operation Forces that can contribute to military campaigns.

The mission of the Defense Science Board is to advise the Secretary of Defense and the Under Secretary of Defense for Acquisition, Technology & Logistics on scientific and technical matters as they affect the perceived needs of the Department of Defense. At these meetings, the Defense Science Board Task Force will address how to: enhance and best integrate information, maneuver and fires (kinetic and other, lethal and otherwise); deploy, sustain and protect the joint force in these missions, particularly in remote locations and in the face of counter-access measures; and, exploit and leverage the contributions of coalition partners both traditional (e.g., NATO allies) and non-traditional (e.g., the Afghan Northern Alliance). The Task Force will recommend steps to pursue and implement the new and enhanced operational capabilities it identifies. These steps will include initiatives for technology, systems, doctrine, organization, training, leader development, experiments and demonstrations, modeling and simulation tools and facilities.

In accordance with Section 10(d) of the Federal Advisory Committee Act, Pub. L. 92-463, as amended (5 U.S.C. App. II), it has been determined that these Defense Science Board Task Force meetings concern matters listed in 5 U.S.C. 552b(c)(1) and that, accordingly, these matters will be closed to the public.

Dated: March 8, 2002.
Patricia L. Toppings,
Alternate OSD Federal Register, Liaison Officer, Department of Defense.

[FR Doc. 02-6117 Filed 3-13-02; 8:45 am]

BILLING CODE 5001-08-M